DEPARTMENT OF JUSTICE

Notice of Lodging of Consent Judgment Pursuant to Resource Recovery and Conservation Act

Notice is hereby given that on May 14, 2008, a proposed Consent Judgment in United States v. Asti Holding Corp., et al., Civil Action No. CV-02-4749, was lodged with the United States District Court for the Eastern District of New York.

The proposed Consent Judgment will resolve the United States' claims under Section 9006 of the Resource Recovery and Conservation Act, as amended, 42 U.S.C. 6991e, on behalf of the U.S. Environmental Protection Agency against Asti Holding Corp., JP Christy, Inc. a/k/a “P.J. Christy, Inc.”, Venice Equities Inc., EM-ESS Petroleum Corp., Northland Marketing Corp., Wheatley Petroleum LLC; 2800 Sunrise Bellmore Corp.; Hartplace Realty, Inc.; Capri Holding Corp.; Benevento Holding Corp.; 122-05 Merrick Corp.; 1676 Flatbush Realty LLC; Brescia Holding Corp.; Ancona Holding Corp.; Bari Holding Corp.; Plus Petroleum, Ltd.; Vidoge, Inc.; Mat Mac Realty; Pisa Holding Corp.; Siena Holding Corp.; 1206 Bellmore Avenue Realty Corp.; 1303 Webster Avenue Realty LLC; Cosenza Holding Corp.; and Joseph Macchia, Jr. (collectively “defendants”). The United States alleges that defendants violated the regulations governing underground storage tanks (“USTs”), set forth at 40 CFR part 280, at the following twenty-five facilities, which were automobile fueling stations with USTs that defendants have owned and/or operated: (1) 644 Bushwick Avenue, Brooklyn, New York; (2) 122-21 Rockaway Boulevard, South Ozone Park, New York; (3) 169 Third Avenue, Brooklyn, New York; (4) 586 South Conduit Avenue, Brooklyn, New York; (5) 784 Jamaica Avenue, Brooklyn, New York; (6) 126 Fourth Avenue, Brooklyn, New York; (7) 1463 Eastern Parkway, Brooklyn, New York; (8) 4090 Boston Road, Bronx, New York; (9) 117-01 Springfield Boulevard, Cambria Heights, New York; (10) 9702 Foster Avenue, Brooklyn, New York; (11) 2800 Sunrise Highway, Bellmore, New York; (12) 2425 Merrick Road, Bellmore, New York; (13) 243-02 South Conduit Avenue, Rosedale, New York; (14) 253 Elmont Road, Elmont, New York; (15) 122-05 Merrick Boulevard, Jamaica, New York; (16) 1676 Flatbush Avenue, Brooklyn, New York; (17) 1525 Myrtle Avenue, Brooklyn, New York; (18) 402 Rosevale Avenue, Ronkonkoma, New York; (19) 175 Targee Street, Staten Island, New York; (20) 81-02 Atlantic Avenue, Ozone Park, New York; (21) 153-17 Northern Boulevard, Flushing, New York; (22) 327 Hamilton Avenue, Brooklyn, New York; (23) 1206 Bellmore Avenue, Bellmore, New York; (24) 1303 Webster Avenue, Bronx, New York; and (25) 910 Conklin Street, Farmingdale, New York.

The Consent Judgment requires defendants to pay a civil penalty of $650,000, which was calculated after conducting an ability-to-pay analysis. The Consent Judgment also provides for injunctive relief to be implemented over the next five years at defendants' facilities, consisting of maintenance of ongoing compliance with the UST regulations, and submission of reports demonstrating such compliance.

The Department of Justice will receive for a period of thirty (30) days from the date of this publication comments relating to the proposed Consent Judgment. Comments should be addressed to the Assistant Attorney General, Environment and Natural Resources Division, and either e-mailed to the pubcomment-ees.enrd@usdoj.gov or mailed to P.O. Box 7611, Department of Justice, Washington, DC 20044-7611, and should refer to United States v. Asti Holding Corp., et al., Civil Action No. CV-02-4749, D.J. Ref. No. 90-7-1-07305.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgment may also be examined on the following Department of Justice website, http://www.usdoj.gov/enrd/Consent_Decree.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $3.00 (25 cents per page reproduction cost) payable to the U.S. Treasury.

Ronald Gluck,
Assistant Chief, Environmental Enforcement Section, Environment and Natural Resources Division.

[FR Doc. E8-12758 Filed 6-6-08; 8:45 am]

BILLING CODE 4410-15-P